DEPARTMENT OF ENERGY

Federal Energy Regulatory Commission

[Docket No. RP02-155-000 and CP01-407-001]

Ozark Gas Transmission, L.L.C.; Notice of Tariff Filing and Compliance Filing

February 12, 2002.

Take notice that on January 29, 2002, Ozark Gas Transmission, L.L.C. (Ozark) tendered for filing as part of its FERC Gas Tariff, Original Volume No. 1, the revised tariff sheets listed in Appendix A attached to the filing, to be effective March 1, 2002.

Ozark states that the purpose of this filing is to comply with the Commission's order Granting Certificates and Approving Market-Based Storage Rates, issued December 21, 2001 in Docket No. CP01-407-000, directing Ozark to file certain pro forma tariff sheets as actual sheets and to develop cost-based storage rates for no-notice service.

Ozark further states that it has served copies of the filing upon the company's jurisdictional customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before February 19, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-3914 Filed 2-15-02; 8:45 am]

BILLING CODE 6717-01-P